DEPARTMENT OF VETERANS AFFAIRS

[OMB Control No. 2900-NEW]

Agency Information Collection Activity Under OMB Review: Survey of Individuals Using Their Entitlement to Educational Assistance Under the Educational Assistance Programs Administered by the Secretary of Veterans Affairs

AGENCY: Veterans Benefits Administration, Department of Veterans Affairs.

ACTION: Notice.

SUMMARY: In compliance with the Paperwork Reduction Act (PRA) of 1995, this notice announces that the Veterans Benefits Administration, Department of Veterans Affairs, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.

FOR FURTHER INFORMATION CONTACT: Maribel Aponte, Office of Enterprise and Integration, Data Governance Analytics (008), 1717 H Street NW, Washington, DC 20006, (202) 266-4688 or email Maribel.aponte@va.gov. Please refer to “OMB Control No. 2900-NEW” in any correspondence.

SUPPLEMENTARY INFORMATION:

Authority: 44 U.S.C. 3501-21.

Title: Survey Of Individuals Using Their Entitlement To Educational Assistance Under The Educational Assistance Programs Administered By The Secretary Of Veterans Affairs.

OMB Control Number: 2900-NEW.

Type of Review: New data collection.

Abstract: The Educational Assistance Program Feedback Survey is designed to measure experience of beneficiaries of educational assistance programs administered by the Veterans Affairs (VA), including under chapters 30, 32, 33, and 35 of title 38 United States Code. The information will help the VA improve programs and better serve Veterans interested in educational assistance. Educational Assistance Program feedback data will be collected using an online transactional survey or paper disseminated via an invitation email or mailed letter sent to selected beneficiaries. The survey questionnaire includes 52 questions, though in actuality due to branching depending on responses to each question respondents will complete anywhere from 8-49 questions (8 if respondents passed their benefit to dependents; 39-49 questions for all other respondents). The survey contains general rating-scale questions (e.g., a scale of 1-5 from Very dissatisfied to Very satisfied; or Not at all effective to Extremely effective) to assess satisfaction with educational assistance programs, resources, training as well as questions assessing education/training outcomes (completion of program, current income level) and has been approved by the Education Service leadership. These questions have been mapped to the Public Law 114-315 (December 15, 2016) section 414. After the survey has been distributed, recipients will have two weeks to complete the survey. Invitees will receive a reminder email or mailed letter after one week. The sample will be distributed across four Education Benefit Programs: Post-9/11 GI Bill (Chapter 33), Montgomery GI Bill—Active Duty (Chapter 30), Veterans Education Assistance Program (VEAP; Chapter 32), and Survivors' and Dependents' Educational Assistance (DEA; Chapter 35). The overall sample size is determined so that the reliability of survey estimate is 3% Margin of Error at a 95% Confidence Level. Once data collection is completed, the participant responses in the survey will be weighted so that the samples more closely represent the overall population. Weighting models will rely on beneficiary age and gender.

An agency may not conduct or sponsor, and a person is not required to respond to a collection of information unless it displays a currently valid OMB control number. The Federal Register Notice with a 60-day comment period soliciting comments on this collection of information was published at 85 FR 246 on December 22, 2020, page 83682.

Affected Public: Individuals.

Estimated Annual Burden: 180 hours.

Estimated Average Burden per Respondent: 10 minutes.

Frequency of Response: One time.

Estimated Number of Respondents: 1,080.

By direction of the Secretary.
Maribel Aponte,
VA PRA Clearance Officer, Office of Enterprise and Integration, Data Governance Analytics, Department of Veterans Affairs.

[FR Doc. 2021-04996 Filed 3-9-21; 8:45 am]

BILLING CODE 8320-01-P